Title 3—

The President

Proclamation 7648 of February 28, 2003

American Red Cross Month, 2003

By the President of the United States of America

A Proclamation

Throughout our history, Americans have been committed to helping the suffering, the disadvantaged, and those in need of help. The American Red Cross represents the compassion of our Nation in action. During American Red Cross Month, we honor this remarkable organization and recognize its proud heritage of service.

For more than 121 years, the Red Cross has upheld its mission to provide relief to victims of disasters and to help people prevent, prepare for, and respond to emergencies. Last year, the Red Cross helped victims of more than 70,000 disasters, ranging from dwelling fires to widespread catastrophes such as hurricanes, floods, tornadoes, and wildfires. Around the world, the Red Cross contributed to international efforts that aided other countries devastated by natural disasters, assisted people in getting access to safe drinking water, and battled malnutrition and life-threatening diseases. More than half a million U.S. military families received direct assistance from the Red Cross, helping them stay connected with their loved ones, despite difficult circumstances.

The American Red Cross also strengthens our communities by encouraging citizens to be involved and to help their neighbors in need. Last year, more than 1.2 million everyday heroes volunteered at their local Red Cross chapters, and almost 12 million more took the time to learn lifesaving skills such as first aid, CPR, and defibrillator use. And more than 4 million citizens answered the call for blood donors, giving 7.2 million blood donations through the American Red Cross.

During these times of great consequence, the mission of the Red Cross is more critical than ever. As our Nation confronts new challenges, the American Red Cross and its partners are working with the Federal Government and the emergency planning community to help keep America safe. Through its “Together We Prepare” campaign, the Red Cross is a vital partner with the Department of Homeland Security in empowering individuals and families to protect themselves and be prepared for the unexpected.

Countless people across our country turn to the American Red Cross every day for blood and blood products, disaster assistance, and vital community services. We are grateful for this essential and inspiring organization, and we celebrate its legacy of help, hope, and healing for those in need.

NOW, THEREFORE, I, GEORGE W. BUSH, President of the United States of America and Honorary Chairman of the American Red Cross, by virtue of the authority vested in me by the Constitution and laws of the United States, do hereby proclaim March 2003 as American Red Cross Month. As we celebrate this month, I call upon all citizens to become partners in preparedness with their local Red Cross chapters and to become active participants in advancing the noble mission of the American Red Cross.

IN WITNESS WHEREOF, I have hereunto set my hand this twenty-eighth day of February, in the year of our Lord two thousand three, and of the Independence of the United States of America the two hundred and twenty-seventh.

B

[FR Doc. 03-5368

Filed 3-4-03; 9:11 am]

Billing code 3195-01-P